DEPARTMENT OF THE INTERIOR

National Park Service

[NPS-WASO-NAGPRA-NPS0040444; PPWOCRADN0-PCU00RP14.R50000]

Notice of Inventory Completion: University of Pennsylvania Museum of Archaeology and Anthropology, Philadelphia, PA

AGENCY: National Park Service, Interior.

ACTION: Notice.

SUMMARY: In accordance with the Native American Graves Protection and Repatriation Act (NAGPRA), the University of Pennsylvania Museum of Archaeology and Anthropology (Penn Museum) has completed an inventory of human remains and has determined that there is a cultural affiliation between the human remains and Indian Tribes or Native Hawaiian organizations in this notice.

DATES: Repatriation of the human remains in this notice may occur on or after July 28, 2025.

ADDRESSES: Send written requests for repatriation of the human remains in this notice to Dr. Christopher Woods, Williams Director, University of Pennsylvania Museum of Archaeology and Anthropology, 3260 South Street, Philadelphia, PA 19104-6324, email director@pennmuseum.org.

SUPPLEMENTARY INFORMATION: This notice is published as part of the National Park Service's administrative responsibilities under NAGPRA. The determinations in this notice are the sole responsibility of the Penn Museum, and additional information on the determinations in this notice, including the results of consultation, can be found in its inventory or related records. The National Park Service is not responsible for the determinations in this notice.

Abstract of Information Available

Human remains representing at least eight individuals have been identified. No associated funerary objects are present. The eight individuals were removed from a Historic cemetery at Point Barrow, Alaska, by Edward Avery McIlhenny as part of a Penn Museum Expedition between 1897 and 1898.

Six of the eight individuals were shipped to Mr. McIlhenny's home in Louisiana before being transferred to the Academy of Natural Sciences in Philadelphia in 1899. That same year, the remains were transferred to the Penn Museum and accessioned into the Penn Museum collection (PM# 42834-42839).

Two of the eight individuals were shipped to the University of Pennsylvania Department of Paleontology, to be temporarily housed by freight from Seattle before being transferred and accessioned into the collections of the Wistar Institute of Anatomy and Biology, Philadelphia. In 1987, the Wistar Institute gifted the two ancestral human remains to the Penn Museum (PM# 87-30-129, 87-30-143).

The eight individuals range in age from adolescence to adulthood and are represented by cranial and postcranial bone elements. Both males and females are represented, with one sex being ambiguous. No known individuals were identified. There is no known presence of any potentially hazardous substances.

Cultural Affiliation

Based on the information available and the results of consultation, cultural affiliation is clearly identified by the information available about the human remains described in this notice.

Determinations

The Penn Museum has determined that:

• The human remains described in this notice represent the physical remains of eight individuals of Native American ancestry.

• There is a connection between the human remains described in this notice and the Native Village of Barrow Inupiat Traditional Government.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after July 28, 2025. If competing requests for repatriation are received, the Penn Museum must determine the most appropriate requestor prior to repatriation. Requests for joint repatriation of the human remains are considered a single request and not competing requests. The Penn Museum is responsible for sending a copy of this notice to the Indian Tribes and Native Hawaiian organizations identified in this notice.

Authority: Native American Graves Protection and Repatriation Act, 25 U.S.C. 3003, and the implementing regulations, 43 CFR 10.10.

Dated: June 17, 2025.
Melanie O'Brien,
Manager, National NAGPRA Program.

[FR Doc. 2025-11923 Filed 6-26-25; 8:45 am]

BILLING CODE 4312-52-P